DEPARTMENT OF THE INTERIOR

Minerals Management Service

Notice of Availability of the Proposed Final 5-Year Outer Continental Shelf (OCS) Oil and Gas Leasing Program for 2007-2012 and Final Environmental Impact Statement

AGENCY: Minerals Management Service, Interior.

ACTION: Notice of availability of proposed final program and final environmental impact statement (EIS)

SUMMARY: The MMS has issued a proposed final program for 2007-2012. This is the third and final proposal for a new OCS oil and gas leasing program, following the February 2006 draft proposed program and August 2006 proposed program. A final EIS prepared in accordance with section 102(2)(C) of the National Environmental Policy Act has been issued along with the proposed final program. The proposed final program schedules 21 sales in 8 OCS planning areas—8 sales in 4 Alaska planning areas, 12 sales in 3 Gulf of Mexico planning areas, and 1 sale in the Mid-Atlantic planning area. This includes 1 sale in the Eastern Gulf of Mexico as mandated by the Gulf of Mexico Energy Security Act of 2006 (P.L. 109-432, December 20, 2006). The proposed final program has been submitted to the President and Congress as required by section 18 of the OCS Lands Act. In accordance with section 18, the Secretary of the Interior may approve the new leasing program after a period of 60 days.

DATES: The new program is scheduled to go into effect on July 1, 2007.

FOR FURTHER INFORMATION CONTACT: Proposed final program and final EIS documents and information can be obtained from the MMS internet webpage at www.mms.gov. The documents also can be obtained from the following MMS offices: Gulf of Mexico Region, 1201 Elmwood Park Boulevard, New Orleans, Louisiana 70123-2394, telephone (504) 736-2519 or 1-800-200-GULF; Alaska Region, 3801 Centerpoint Drive, Suite 500, Anchorage, Alaska 99503, telephone (907) 334-5200 or 1-800-764-2627; and MMS, Pacific OCS Region, 770 Paseo Camarillo, Camarillo, California 93010-6064, telephone (805) 389-7533, (805) 389-7863 or 1-800-672-2627, in addition to the informational addresses below. The list of libraries where the Final EIS has been sent can also be found on the MMS 5-year program Web site at http://www.mms.gov/5-year/.

SUPPLEMENTARY INFORMATION: Questions concerning preparation of the proposed final program should be directed to: Renee Orr, Chief, Leasing Division, MS-4010, Minerals Management Service, 381 Elden Street, Herndon, Virginia 20170-4817, telephone (703) 787-1215. Copies of the program document and related information also can be obtained from the Leasing Division.

Questions concerning the Final EIS should be directed to: James F. Bennett, Chief, Environmental Assessment Branch, MS-4042, Minerals Management Service, 381 Elden Street, Herndon, Virginia 20170-4817, telephone (703) 787-1660. Copies of the EIS and related information also can be obtained from the Environmental Assessment Branch.

Dated: April 11, 2007.
R.M. “Johnnie” Burton,
Director, Minerals Management Service.

[FR Doc. E7-8339 Filed 5-1-07; 8:45 am]

BILLING CODE 4310-MR-P